DEPARTMENT OF HEALTH AND HUMAN SERVICES

Food and Drug Administration

[Docket No. 1998N-0359 (formerly Docket No. 98N-0359)]

Program Priorities in the Center for Food Safety and Applied Nutrition; Request for Comments

AGENCY: Food and Drug Administration, HHS.

ACTION: Notice; request for comments.

SUMMARY: The Food and Drug Administration (FDA) is requesting comments concerning the establishment of program priorities in the Center for Food Safety and Applied Nutrition (CFSAN) for fiscal year (FY) 2006. As part of its annual planning, budgeting, and resource allocation process, CFSAN is reviewing its programs to set priorities and establish work product expectations. This notice is being published to give the public an opportunity to provide input into the priority-setting process.

DATES: Submit written or electronic comments by July 19, 2005.

ADDRESSES: Submit written comments concerning this document to the Division of Dockets Management (HFA-305), Food and Drug Administration, 5630 Fishers Lane, rm. 1061, Rockville, MD 20852. Submit electronic comments to http://www.fda.gov/dockets/ecomments.

FOR FURTHER INFORMATION CONTACT: Donald J. Carrington, Center for Food Safety and Applied Nutrition (HFS-666), Food and Drug Administration, 5100 Paint Branch Pkwy., College Park, MD 20740, 301-436-1697, or e-mail: dcarring@cfsan.fda.gov.

SUPPLEMENTARY INFORMATION:

I. Background

On December 1, 2004, CFSAN released a document entitled “FY 2005 CFSAN Program Priorities.” The document, a copy of which is available on CFSAN's Web site (www.cfsan.fda.gov) or from the contact person listed in the FOR FURTHER INFORMATION CONTACT section, constitutes the Center's priority workplan for FY 2005 (i.e., October 1, 2004, through September 30, 2005). The FY 2005 workplan is based on input we received from our stakeholders (see 69 FR 35380, June 24, 2004), as well as input generated internally. The primary focus is: “Where do we do the most good for consumers?”

The FY 2005 workplan contained three lists of activities, as follows: The “A-list,” the “B-list,” and a “Priority Ongoing Activities” list. Our goal is to complete fully at least 90 percent of the “A-list” activities by the end of the fiscal year, September 30, 2005. Activities on the “B-list” are those we plan to make progress on, but may not complete before the end of the fiscal year. Items in the “Priority Ongoing Activities” list illustrate some of the many priority activities the Center performs on a regular basis in addition to those identified on our “A” and “B” lists.

CFSAN intends to issue a progress report on what program priority activities already have been completed to date in the summer of FY 2005, as well as any adjustments in the workplan (i.e., additions or deletions) for the balance of the fiscal year.

II. 2006 CFSAN Program Priorities

FDA is requesting comments on what program priorities CFSAN should consider establishing for FY 2006. The input will be used to develop CFSAN's FY 2006 workplan. The workplan will set forth the Center's program priorities for the period of October 1, 2005, through September 30, 2006. FDA intends to make the FY 2006 workplan available in the fall of 2005.

The format of the FY 2006 workplan will be identical to the FY 2005 plan, and it will be formatted into the following five sections:

(1) Ensuring Food Defense and Security,

(2) Improving Nutrition and Dietary Supplement Safety,

(3) Ensuring Food/Color Additives and Cosmetic Safety,

(4) Ensuring Food Safety: Crosscutting Areas, and

(5) Priority Ongoing Activities.

FDA expects there will be considerable continuity and followthrough between the 2005 and 2006 workplans. For example, initiatives aimed at increasing the security of our country's food supply will continue to be a high priority in FY 2006. FDA requests comments on other broad program areas that should continue to be a priority, as well as new program areas or activities that should be added as a high priority, for FY 2006.

III. Comments

Interested persons may submit to the Division of Dockets Management (see ADDRESSES) written or electronic comments regarding this document. Submit a single copy of electronic comments or two paper copies of any mailed comments, except that individuals may submit one paper copy. Comments are to be identified with the docket number found in brackets in the heading of this document. Received comments may be seen in the Division of Dockets Management between 9 a.m. and 4 p.m., Monday through Friday.

Dated: May 12, 2005.
Jeffrey Shuren,
Assistant Commissioner for Policy.

[FR Doc. 05-10033 Filed 5-19-05; 8:45 am]

BILLING CODE 4160-01-S